ENVIRONMENTAL PROTECTION AGENCY

[FRL-8164-8]

EPA Science Advisory Board Staff Office; Request for Nominations of Candidates for the EPA Clean Air Scientific Advisory Committee, the Advisory Council on Clean Air Compliance Analysis, and the Science Advisory Board

AGENCY: Environmental Protection Agency.

ACTION: Notice.

SUMMARY: The U.S. Environmental Protection Agency's (EPA) Science Advisory Board (SAB) Staff Office is soliciting nominations for consideration of membership on EPA's Clean Air Scientific Advisory Committee (CASAC), the Advisory Council on Clean Air Compliance Analysis (Council), the chartered Science Advisory Board (SAB or Board), and SAB Standing Committees.

DATES: Nominations should be submitted in time to arrive no later than June 2, 2006.

FOR FURTHER INFORMATION CONTACT: Nominators who are unable to submit nominations electronically as described below, may submit a paper copy by contacting Ms. Patricia L. Thomas, U.S. EPA SAB Staff Office (Mail Code 1400F), 1200 Pennsylvania Avenue, NW., Washington, DC 20460 (FedEx/Courier address: U.S. EPA SAB, Suite 3600, 1025 F Street, NW., Washington DC 20004), (202) 343-9974 (telephone), (202) 233-0643 (fax), or via e-mail at thomas.patricial@epa.gov. General inquiries regarding the work of the SAB, CASAC, and Council may be directed to Dr. Anthony F. Maciorowski, Associate Director for Science, U.S. EPA SAB Staff Office, (202) 343-9983 (telephone), or via e-mail at maciorowski.anthony@epa.gov.

Background

The SAB (42 U.S.C. 4365), CASAC (42 U.S.C. 7409) and Council (42 U.S.C. 7612) are chartered Federal Advisory Committees that report directly to the EPA Administrator. The mission of these federal advisory committees, as established by statute, is to provide independent scientific and technical peer review, advice, consultation, and recommendations to the EPA Administrator on the technical bases for EPA actions. As Federal Advisory Committees, the CASAC, Council, and SAB conduct business in accordance with the Federal Advisory Committee Act (FACA) (5 U.S.C. App. C) and related regulations. Generally, CASAC, Council, and SAB meetings are announced in the Federal Register, conducted in public view, and provide opportunities for public input during deliberations. Additional information about these Federal Advisory Committees can be obtained on the SAB Web site at: http://www.epa.gov/sab.

Members of the CASAC, Council, SAB and their standing committees constitute a distinguished body of non-EPA scientists, engineers, economists, and social scientists who are nationally and internationally recognized experts in their respective fields. Members are appointed by the EPA Administrator for a period of three years, with the possibility of appointment to a second three year term. These federal advisory committees provide advice, recommendations, and peer review on a wide variety of EPA science activities. This notice specifically requests nominations for the chartered CASAC, Council, and SAB, and SAB standing committees.

The chartered CASAC has responsibility to review and offer technical and scientific advice to the EPA Administrator on scientific aspects of national ambient air quality standards for criteria pollutants. The chartered Council has the responsibility to review and offer technical and scientific advice to the EPA Administrator on the impacts of the Clean Air Act on the public health, economy, and environment of the United States. The SAB standing committees provide independent scientific and technical advice to the EPA Administrator through the chartered Board. The SAB Drinking Water Committee provides advice on EPA's national drinking water criteria and standards program. The SAB Ecological Processes and Effects Committee provides advice on science to protect, sustain and restore the integrity of ecosystems. The SAB Environmental Economics Advisory Committee provides advice on methods and analyses related to economics, costs, and benefits of EPA environmental programs. The SAB Environmental Engineering Committee provides advice on environmental engineering, remediation, and control. The SAB Environmental Health Committee and the SAB Integrated Human Exposure Committee provides advice on the development and use of guidelines for human health effects, exposure assessment, and risk assessment. The Radiation Advisory Committee provides advice on radiation protection, radiation science, and radiation risk assessment. All the work of the SAB standing committees are under the direction of the Board. The Board reviews and approves SAB standing committee reports, and provides strategic advice to the EPA Administrator on a variety of EPA science and research issues and programs. Additional information about the CASAC, the Council, the SAB, and SAB standing committees may be found at the SAB Web site at: http://www.epa.gov/sab.

Expertise Sought

The SAB Staff Office is seeking nominations for nationally and internationally recognized non-EPA scientists, engineers, economists, and social scientists. Nominees are sought from a wide range of scientific and technical areas that are relevant to EPA research and science activities. General areas of expertise and the specific committees where such expertise is desired follow.

(a) Exposure Assessment—Specialized expertise in the characterization, quantitative analysis, sensor development and deployment, monitoring, and modeling of sources, emissions, environmental fate, transport, and distribution of physical, chemical, radiological, and biological stressors and mixtures in various environmental media (air, water, land, tissue, etc.). Depending upon their specific disciplinary expertise, nominees will be considered for appointment to the chartered CASAC, chartered SAB, the SAB Drinking Water Committee, the SAB Integrated Human Exposure Committee, and the SAB Radiation Advisory Committee.

(b) Human Health Risk Assessment—Specialized expertise in public health, environmental medicine, epidemiology, mammalian toxicology, microbiology, quantitative or statistical methods and models to estimate the potential health hazard and risk of physical, chemical, radiological, and biological stressors and mixtures in various environmental media (air, water, land, tissue, etc.). Depending upon their specific disciplinary expertise, nominees will be considered for appointment to the chartered CASAC, chartered Council, the chartered SAB, the SAB Drinking Water Committee, the SAB Environmental Health Committee, and the SAB Radiation Advisory Committee.

(c) Ecological Assessment—Specialized expertise in ecological condition assessment, conservation biology, landscape ecology, ecosystem modeling, ecotoxicology, quantitative or statistical methods and models to estimate the ecological hazard and risk to ecosystems, communities, populations, and species to physical, chemical, radiological, and biological stressors and mixtures. Depending upon their specific disciplinary expertise, nominees will be considered for appointment to the chartered SAB, and the SAB Ecological Processes and Effects Committee.

(d) Risk Mitigation and Control—Specialized expertise in civil, chemical, environmental, or systems engineering for the protection of public health and the environment through sustainable and green approaches, environmental management systems, pollution prevention, waste reduction and reuse, and containment or control technologies for environmental stressors in all environmental media (e.g., air, land, water). Depending upon their specific disciplinary expertise, nominees will be considered for appointment to the chartered SAB and the SAB Environmental Engineering Committee.

(g) Environmental Economics Assessments—Specialized expertise in cost-benefit analysis, uncertainty analysis, energy sector and electricity generation, modeling (e.g., emissions fate and transport, emissions trading, economy-environment interactions), application of quantitative methods to environmental policy (e.g., benefit-cost assessment, valuation, cost effective analysis, computable general equilibrium modeling), market mechanisms and incentives, or political economy of policy instrument choices. Depending upon their specific disciplinary expertise, nominees will be considered for appointment to the chartered Council, chartered SAB, and the SAB Environmental Economics Advisory Committee.

(f) Behavioral and Decision Sciences Assessments—Specialized expertise in risk communication, and analytical deliberative, collaborative, and predictive approaches to environmental decision-making. Depending upon their specific disciplinary expertise, nominees will be considered for appointment to the chartered Council and the chartered SAB.

How To Submit Nominations

Any interested person or organization may nominate qualified persons to be considered for appointment to these chartered advisory committees and SAB standing committees. Individuals may self-nominate. Qualified nominees will demonstrate appropriate scientific education, training, and experience to evaluate basic and applied science issues addressed by these advisory committees. Successful nominees will have distinguished themselves professionally and be available to invest the time and effort in providing advice and recommendations on the development and application of science at EPA. Nominations should be submitted in electronic format (which is preferred over hard copy) through the Form for Nomination to Chartered Advisory Committees or SAB Subcommittees provided on the SAB Web site. The form can be accessed through the SAB Nomination Form link on the blue navigational bar on the SAB Web site at: http://www.epa.gov/sab. To be considered, all nominations should include the information requested on that form.

Nominators are asked to identify the specific committee or committees for which nominees would like to be considered. The nominating form requests contact information about: The person making the nomination; contact information about the nominee; the disciplinary and specific areas of expertise of the nominee; the nominee's curriculum vita; and a biographical sketch of the nominee indicating current position, educational background; research activities; and recent service on other national advisory committees or national professional organizations. Persons having questions about the nomination procedures, or who are unable to submit nominations through the SAB Web site, should contact Ms. Patricia L. Thomas as indicated above in this notice. Non-electronic submissions must follow the same format and contain the same information as the electronic form. The SAB Staff Office will acknowledge receipt of nominations.

Candidates will be asked to submit the “Confidential Financial Disclosure Form for Special Government Employees Serving on Federal Advisory Committees at the U.S. Environmental Protection Agency” (EPA Form 3110-48). This confidential form allows EPA to determine whether there is a statutory conflict between that person's public responsibilities as a Special Government Employee and private interests and activities, or the appearance of a lack of impartiality, as defined by Federal regulation. The form may be viewed and downloaded at the SAB Web site at: http://www.epa.gov/sab/pdf/epaform3110-48.pdf. This form should not be submitted as part of a nomination.

The SAB Staff Office seeks candidates who possess the necessary domains of knowledge, and relevant scientific perspectives (which, among other factors, can be influenced by work history and affiliation) to adequately address scientific issues facing the Agency. The primary criteria to be used in evaluating potential nominees will be scientific and/or technical expertise, knowledge, and experience. Additional criteria that will be used to evaluate technically qualified nominees will include: The absence of financial conflicts of interest; scientific credibility and impartiality; availability and willingness to serve; and the ability to work constructively and effectively on committees. The selection of new members will also include consideration of the collective breadth and depth of scientific perspectives; a balance of scientific perspectives; continuity of knowledge and understanding of EPA missions and environmental programs, and diversity factors (e.g., geographical areas and professional affiliations) for each of the chartered committees, SAB subcommittees.

Dated: April 27, 2006.
Vanessa Vu,
Director, EPA Science Advisory Board Staff Office.

[FR Doc. E6-6701 Filed 5-2-06; 8:45 am]

BILLING CODE 6560-50-P